DEPARTMENT OF TRANSPORTATION

Federal Motor Carrier Safety Administration

[Docket No. FMCSA-2024-0230]

Commercial Driver's License Standards: Application for Exemption; Daimler Trucks North America, LLC

AGENCY: Federal Motor Carrier Safety Administration (FMCSA), Department of Transportation (DOT).

ACTION: Notice of final disposition; granting of application for exemption.

SUMMARY: The Federal Motor Carrier Safety Administration (FMCSA) announces its final decision to grant a 5-year exemption to Daimler Trucks North America, LLC (Daimler) for six drivers who hold foreign commercial licenses from the requirement to hold a commercial driver's license (CDL) issued by a U.S. State when operating a commercial motor vehicle (CMV). This exemption will permit the six drivers to test-drive Daimler vehicles on U.S. roads to better understand product requirements in “real-world” environments and verify results. FMCSA reviewed the drivers' commercial license records provided by Daimler and believes the requirements for a German commercial license, the work restrictions imposed on Daimler drivers by their nonimmigrant visas, and the terms and conditions set forth below, will ensure that Daimler's operation under this exemption will likely achieve a level of safety equivalent to or greater than the level that would be achieved in the absence of the exemption.

DATES: The exemption is effective January 16, 2025 and expires January 16, 2030.

FOR FURTHER INFORMATION CONTACT: Ms. Bernadette Walker, FMCSA Driver and Carrier Operations Division; Office of Carrier, Driver and Vehicle Safety Standards; 202-385-2415; bernadette.walker@dot.gov. If you have questions on viewing or submitting material to the docket, contact Dockets Services at (202) 366-9826.

SUPPLEMENTARY INFORMATION:

I. Public Participation

Viewing Comments and Documents

To view comments, go to www.regulations.gov, insert the docket number “FMCSA-2024-0230” in the keyword box, and click “Search.” Next, sort the results by “Posted (Newer-Older),” choose the first notice listed click “Browse Comments.”

To view documents mentioned in this notice as being available in the docket, go to www.regulations.gov, insert the docket number “FMCSA-2024-0230” in the keyword box, click “Search,” and chose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from certain Federal Motor Carrier Safety Regulations (FMCSRs). FMCSA must publish a notice of each exemption request in the Federal Register (49 CFR 381.315(a)). The Agency must provide the public an opportunity to inspect the information relevant to the application, including any safety analyses. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 383.23, no person is permitted to operate a CMV without having taken and passed knowledge and driving skills tests for a commercial learner's permit or CDL that meet the Federal standards contained in subparts F, G, and H of Part 383 for the CMV that person operates or expects to operate.

Applicant's Request

Daimler's application for exemption was described in detail in a Federal Register notice published on October 15, 2024 (89 FR 83078) and will not be repeated here, as the facts have not changed.

IV. Public Comments

The Agency received no comments in response the notice of Daimler's application.

V. FMCSA Decision

FMCSA has determined that the process for obtaining a commercial license in Germany is comparable to the process for obtaining a State-issued CDL and adequately ensures that these drivers can safely operate a CMV in the United States. Based on the information provided by Daimler, including the drivers' experience and safety records, FMCSA concludes that the exemption, subject to the terms and conditions set forth in section VI, would likely achieve a level of safety that is equivalent to, or greater than, the level that would be achieved absent such exemption, in accordance with 49 U.S.C. 31315(b)(1).

VI. Terms and Conditions for the Exemption

This exemption applies only to the following six Daimler drivers: Christopher Kappes, Andreas Munch, Franz-Alexander Baumgartner, Fabian Schab, Malte Kleindick, and Lucas Jung. These drivers are granted an exemption from the requirement in 49 CFR 383.23, allowing them to drive CMVs in the United States without a State-issued CDL. When operating under this exemption, the six drivers are subject to the following terms and conditions:

(1) The driver and Daimler must comply with all other applicable provisions of the FMCSRs (49 CFR parts 350 through 399);

(2) The driver must be in possession of the exemption document and a valid German commercial license;

(3) The driver must be employed by and operate the CMV within the scope of their duties for Daimler;

(4) At all times while operating a CMV under this exemption, the driver must be accompanied by a holder of a State-issued CDL who is familiar with the routes traveled;

(5) Daimler must notify FMCSA in writing within 5 business days of any accident, as defined in 49 CFR 390.5, involving any of the exempted drivers;

(6) Daimler must notify FMCSA in writing if any of the exempted drivers is convicted of an offense listed in § 383.51 or a disqualifying offense under § 391.15 of the FMCSRs; and

(7) Daimler must subject the exempted drivers to a drug and alcohol testing program substantially equivalent to the requirements in 49 CFR part 382 (excluding the Clearinghouse requirements in subpart G). Daimler must ensure that the testing program for the drivers complies with the procedures set forth in 49 CFR part 40, as required by 49 CFR 382.105.

Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

Notification to FMCSA

Under the exemption, Daimler must notify FMCSA within 5 business days of any positive drug or alcohol tests, or accident (as defined in 49 CFR 390.5), involving Daimler while operating a CMV under the terms of this exemption. The notification about accidents must include the following information:

a. Identifier of the Exemption: “Daimler—[driver name]”;

b. Name of operating carrier and USDOT number;

c. Date of the accident;

d. City or town, and State, in which the accident occurred, or closest to the accident scene;

e. Driver's name and license number;

f. Co-driver's name (if any) and license number;

g. Vehicle number and State license number;

h. Number of individuals suffering physical injury;

i. Number of fatalities;

j. The police-reported cause of the accident, if provided by the enforcement agency;

k. Whether the driver was cited for violation of any traffic laws, motor carrier safety regulations; and

l. The total on-duty time accumulated during the 7 consecutive days prior to the date of the accident, and the total on-duty time and driving time in the work shift prior to the accident.

VII. Termination

FMCSA has no reason to believe the motor carrier and drivers covered by this exemption will experience any deterioration of their safety record. However, should this occur, FMCSA will take all steps necessary to protect the public interest, including revocation of the exemption. FMCSA will immediately revoke the exemption in the event of a failure to comply with its terms and conditions, the exemption has resulted in a lower level of safety than was maintained before the exemption was granted, or continuation of the exemption would not be consistent with the goals and objectives of 49 U.S.C. chapter 313.

Vincent G. White,
Deputy Administrator.

[FR Doc. 2025-01001 Filed 1-15-25; 8:45 am]

BILLING CODE 4910-EX-P